COMMISSION ON CIVIL RIGHTS

Agenda and Notice of Public Meeting of the Kentucky Advisory Committee

Notice is hereby given, pursuant to the provisions of the rules and regulations of the U.S. Commission on Civil Rights (Commission) and the Federal Advisory Committee Act (FACA) that a planning meeting of the Kentucky Advisory Committee (Committee) to the Commission will be held on April 15, 2014, at the Louis D. Brandeis School of Law, University of Louisville, Louisville, KY 40292. The meeting is scheduled to begin at 10:00 a.m. and adjourn at approximately 12:00 noon. The purpose of the meeting is for the Committee to receive reports from the sub-committee on ex-felon voting rights and the sub-committee on school desegregation, discuss the ex-felon voting rights and school desegregation projects, and consider for approval any prepared draft reports by the sub-committees.

Members of the public are entitled to submit written comments. The comments must be received in the Southern Regional Office of the Commission by May 15, 2014. The address is: Southern Regional Office, U.S. Commission on Civil Rights, 61 Forsyth Street SW., Suite 16T126, Atlanta, GA 30303. Persons wishing to email their comments or who desire additional information should contact Peter Minarik, Regional Director of the Southern Regional Office, at (404) 562-7000 (or for hearing impaired TDD 913-551-1414), or by email to pminarik@usccr.gov. Hearing-impaired persons who will attend the meeting and require the services of a sign language interpreter should contact the Regional Office at least ten (10) working days before the scheduled date of the meeting.

Records generated from this meeting may be inspected and reproduced at the Southern Regional Office, as they become available, both before and after the meeting. Persons interested in the work of this advisory committee are advised to go to the Commission's Web site, www.usccr.gov, or to contact the Southern Regional Office at the above email or street address.

The meeting will be conducted pursuant to the provisions of the rules and regulations of the Commission and FACA.

Dated on March 20, 2014.
David Mussatt,
Acting Chief, Regional Programs Coordination Unit.

[FR Doc. 2014-06475 Filed 3-24-14; 8:45 am]

BILLING CODE 6335-01-P